DEPARTMENT OF HEALTH AND HUMAN SERVICES

Centers for Disease Control and Prevention

Disease, Disability, and Injury Prevention and Control Special Emphasis Panel: Centers for Construction Safety and Health, Request for Applications OH-04-002

In accordance with section 10(a)(2) of the Federal Advisory Committee Act (Pub. L. 92-463), the Centers for Disease Control and Prevention (CDC) announces the following meeting:

Name: Disease, Disability, and Injury Prevention and Control Special Emphasis Panel (SEP): Centers for Construction Safety and Health, Request for Applications OH-04-002.

Times and Dates: 6 p.m.-6:30 p.m., July 19, 2004 (Open) 6:30 p.m.-8 p.m., July 19, 2004 (Closed) 8 a.m.-5 p.m., July 20, 2004 (Closed) 8 a.m.-5 p.m., July 21, 2004 (Closed) 8 a.m.-5 p.m., July 22, 2004 (Closed) 8 a.m.-5 p.m., July 23, 2004 (Closed)

Place: Embassy Suites Hotels, 1900 Diagonal Road, Alexandria, VA 22314, Telephone 703.684.5900.

Status: Portions of the meeting will be closed to the public in accordance with provisions set forth in section 552b(c) (4) and (6), Title 5 U.S.C., and the Determination of the Director, Management Analysis and Services Office, CDC, pursuant to Pub. L. 92-463.

Matters To Be Discussed: The meeting will include the review, discussion, and evaluation of applications received in response to Request for Applications: OH-04-002.

For Further Information Contact: S. Price Connor, Ph.D., Scientific Review Administrator, Office of Extramural Programs, National Institute for Occupational Safety and Health, CDC, 1600 Clifton Rd., NE., MS-E74. Atlanta, GA 30333, Telephone 404.498.2507

The Director, Management Analysis and Services Office, has been delegated the authority to sign Federal Register notices pertaining to announcements of meetings and other committee management activities, for both CDC and the Agency for Toxic Substances and Disease Registry.

Dated: May 24, 2004.
Joseph E. Salter,
Acting Director, Management Analysis and Services Office, Centers for Disease Control and Prevention.

[FR Doc. 04-12222 Filed 5-28-04; 8:45 am]

BILLING CODE 4163-19-P